DEPARTMENT OF JUSTICE

Antitrust Division

Notice Pursuant to the National Cooperative Research and Production Act of 1993—Information Warfare Research Project Consortium

Notice is hereby given that, on January 28, 2019, pursuant to Section 6(a) of the National Cooperative Research and Production Act of 1993, 15 U.S.C. 4301 et seq. (“the Act”), Information Warfare Research Project Consortium (“IWRP”) has filed written notifications simultaneously with the Attorney General and the Federal Trade Commission disclosing changes in its membership. The notifications were filed for the purpose of extending the Act's provisions limiting the recovery of antitrust plaintiffs to actual damages under specified circumstances.

Specifically, Accenture Federal Services LLC, Arlington, VA; Addx Corporation, Alexandria, VA; AMERICAN SYSTEMS, Chantilly, VA; Applied Research Associates Inc., Albuquerque, NM; Assurance Technology Corporation, Carlisle, MA; BAE Systems Information & Electronic Systems Integration Inc., Nashua, NH; BAE Systems Technology Solutions & Services Inc. (BAE Systems TSS), Rockville, MD; BlueCat Networks, Reston, VA; Cambridge International Systems Inc., Arlington, VA; Centurum Information Technology Inc., Marlton, NJ; Cisco Systems Inc., San Jose, CA; CodeMettle LLC, Atlanta, GA; Coherent Technical Services (CTSi), Lexington Park, MD; Command Decisions Systems & Solutions (CDS2) Inc., Stafford, VA; D9Tech Resources LLC, Virginia Beach, VA; Deloitte Consulting, Arlington, VA; Dynamic Systems, El Segundo, CA; Engineering Services Network, Woodbridge, VA; Epsilon Systems Solutions Inc., San Diego, CA; Ernst & Young LLP (EY), Tysons, VA; Fathom 4 LLC, Charleston, SC; Force 3 LLC, Crofton, MD; Forward Slope, San Diego, CA; General Electric Company, Lynn, MA; Guidehouse LLP, McLean, VA; Herdt Consulting Inc., Chelsea, AL; HumanTouch LLC, McLean, VA; Imagine One Technology & Management Ltd., Hanahan, SC; IntelliSolutions Inc., San Diego, CA; Invitix LLC dba Instant Technologies, Durham, NC; Johns Hopkins University Applied Physics Laboratory LLC (JHU APL), Laurel, MD; L3 Technologies Inc. Communication Systems- East, Camden, NJ; La Jolla Logic, San Diego, CA; Leidos Inc., Reston, VA; Logistics Management Institute dba LMI, Tysons, VA; Louisiana Technology Group Inc. (LATG), New Orleans, LA; Maritime Applied Physics Corporation, Baltimore, MD; McKean Defense Group LLC, Philadelphia, PA; Metronome LLC, Fairfax, VA; Microsoft Corporation (Microsoft Corporation Sitz in Redmond Corporation), Redmond, WA; Millennium Corporation, Arlington, VA; NAVMAR Applied Sciences Corporation, Warminster, PA; NetApp US Public Sector, Vienna, VA; NexGen Data Systems Inc., Goose Creek, SC; Palantir USG Inc., Palo Alto, CA; Parsons Government Services Inc., Pasadena, CA; Phoenix Operations Group LLC, Woodbine, MD; Popily, Inc. dba New Knowledge, Austin, TX; Poplicus Inc. dba Govini, Arlington, VA; Predicate Logic Inc., San Diego, CA; Product Data Integration Technologies Inc. dba Modulant Inc., North Charleston, SC; Programs Management Analytics & Technologies, Inc. (PMAT), Norfolk, VA; Quantum Dimension Inc., Huntington Beach, CA; Quark Security Inc., Columbia, MD; Red River Technology LLC, Claremont, NH; Robbins-Gioia LLC, Alexandria, VA; SAP National Security Services Inc., Newton Square, PA; Science Applications International Corporation (SAIC), Reston, VA; Sea Machines Robotics Inc., Boston, MA; Siemens Product Lifecycle Management Software Inc., Plano, TX; Silvus Technologies Inc., Los Angeles, CA; Sonalysts, Inc., Waterford, CT; South Dakota School of Mines and Technology, Rapid City, SD; Spectranetix Inc., Sunnyvale, CA; Splunk Inc., San Francisco, CA; Technical Systems Integration, Inc., Chesapeake, VA; The Arcanum Group Inc., Englewood, CO; The Columbia Group Inc., Washington, DC; The University of New Orleans, New Orleans, LA; Tkacz Engineering LLC, Myrtle Beach, SC; Transformational Security LLC, Columbia, MD; Vista Defense Technologies LLC, Rock Island, IL; Warrant Technologies LLC, Bloomington, IN; WPI Services LLC dba Systecon North America, Juno Beach, FL; WR Systems Ltd., Norfolk, VA; and XST Inc., San Diego, CA, have been added as parties to this venture.

No other changes have been made in either the membership or planned activity of the group research project. Membership in this group research project remains open, and IWRP intends to file additional written notifications disclosing all changes in membership.

On October 15, 2018, IWRP filed its original notification pursuant to Section 6(a) of the Act. The Department of Justice published a notice in the Federal Register pursuant to Section 6(b) of the Act on October 23, 2018 (83 FR 53499).

Suzanne Morris,
Chief, Premerger and Division Statistics Unit, Antitrust Division.

[FR Doc. 2019-02446 Filed 2-14-19; 8:45 am]

BILLING CODE 4410-11-P